NATIONAL AERONAUTICS AND SPACE ADMINISTRATION

Draft Guidebook for Proposers Responding to a NASA Research Announcement (NRA)

ACTION: Invitation for comment.

SUMMARY: Interested persons are invited to comment on the Draft Guidebook for Proposers Responding to a NASA Research Announcement (NRA). The Guidebook describes the policies and procedures of the Broad Agency Announcement used by the National Aeronautics and Space Administration (NASA) known as the NASA Research Announcement (NRA). The Guidebook can be accessed online at: http://www.hq.nasa.gov/office/procurement/nraguidebook/ Further clarifying changes to the discussion of conflict of interest (C.4) may be anticipated prior to its final issuance.

EFFECTIVE DATE: Comments must be received on or before February 28, 2001. Late comments will be considered only to the extent practicable.

ADDRESSES: Written comments should be sent to Diane Thompson, Code H, Office of Procurement, 300 E Street, SW, Washington DC 20546. Electronic mail comments may be submitted to diane.thompson@hq.nasa.gov.

FOR FURTHER INFORMATION CONTACT: Diane Thompson, Code HC, 202-358-0514, or email: diane.thompson@hq.nasa.gov.

Tom Luedtke,
Associate Administrator for Procurement.

[FR Doc. 00-32964 Filed 12-26-00; 8:45 am]

BILLING CODE 7510-01-U